DEPARTMENT OF HEALTH AND HUMAN SERVICES

Centers for Disease Control and Prevention

[60Day-15-15XT;Docket No. CDC-2015-0017]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on Enhancing Mine Workers' Abilities to Identify Hazards at Sand, Stone, and Gravel (SSG) Mines. The objective of this project is to characterize SSG mine workers ability to recognize worksite hazards, to understand how this ability relates to perceived and measured risk as well as to other factors internal and external to the SSG mine worker.

DATES: Written comments must be received on or before June 8, 2015.

ADDRESSES: You may submit comments, identified by Docket No. CDC-2015-0017 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Enhancing Mine Workers' Abilities to Identify Hazards at Sand, Stone, and Gravel Mines—New—National Institute for Occupational Safety and Health (NIOSH), Centers for Disease Control and Prevention (CDC).

Background and Brief Description

NIOSH, under Pub. L. 91-173 as amended by Pub. L. 95-164 (Federal Mine Safety and Health Act of 1977), and Pub. L. 109-236 (Mine Improvement and New Emergency Response Act of 2006) has the responsibility to conduct research to improve working conditions and to prevent accidents and occupational diseases in underground coal and metal/nonmetal mines in the U.S.

Hazard recognition is only the first step to a safe work environment. A miner must be able to identify a hazard, recognize the risk associated with the hazard, and then make a decision of how to mitigate the risk and perform the task safely. Risk is defined as the combination of the likelihood an event will occur and the adverse consequences of that event (Brown & Groeger, 1988). Risk perception, the recognition of the risk inherent in a situation, influences decision making with regards to job safety (Hunter, 2002). Being able to recognize worksite hazards and then accurately perceive the associated risk are critical skills that lead to the work behavior decision-making process that is used to eliminate or reduce mining hazards related to operations and maintenance of machinery, operation of powered haulage, material handling, etc. that can result in injury or death.

Hazard recognition is integral to risk perception, situational awareness, and decision making—that is, if the mine worker is unable to recognize worksite hazards, then steps cannot be taken to eliminate or mitigate them. Thus, the mine worker must first be able to recognize that a hazard is present in the environment and then understand the risk the hazard poses to their safety and health in order to make the best decision possible about how to deal with the hazard. Hazard recognition is a necessary skill for all mine workers; therefore, a better understanding of the hazard recognition process within the mining environment is a critical need that this research will fulfill for the industry.

Given the aforementioned, the objective of the project is to characterize SSG mine workers' ability to recognize worksite hazards, to understand how this ability relates to perceived and measured risk as well as to other factors internal and external to the SSG mine worker.

In order to determine how SSG mine workers' recognize and understand the risk associated with mine site hazards, NIOSH will conduct a laboratory-based experimental research study. Throughout the laboratory study, participants will wear a light weight eye-tracking system. Eye-movements will be collected throughout the task so that search patterns can be mapped during analysis to determine differences based on level of experience. NIOSH will also collect identification accuracy data to determine whether level of experience affects the number of hazards identified.

NIOSH will collect additional measures related to perceived risk and risk tolerance. Researchers will assess perceived risk using a Risk Assessment measure which has three parts: (1) An overall evaluation of risk level; (2) an evaluation of accident severity; and (3) an evaluation of risk probability. This will be done for each hazard included in the study.

Researchers will assess Risk Tolerance in two ways: (1) Through the use of the Risk Propensity Scale (Meertens & Lion, 2008) and (2) through the use of Risk Tolerance Workplace Scenarios (Lehmann, Haight, & Michael, 2009). NIOSH will also collect qualitative data through the use of open-ended interview questions.

NIOSH will collect data from SSG mine workers, SSG safety professionals, and students knowledgeable of safety and health issues at SSG mine sites but who have limited work experience on a mine site. The purposes of collecting data from these three groups of participants are to identify differences in hazard recognition abilities and determine how these abilities change—and whether they change—with level of experience and amount of experience with hazards at SSG mine sites.

The total estimated burden hours are 160. There are no costs to respondents other than their time.

Estimated Annualized Burden Hours
Type of respondents | Form name | Number of respondents | Number responses per respondent | Avg. burden per response (in hrs.) | Total burden (in hrs.)
Mine Employee | Prescreening Questionnaire | 45 | 1 | 15/60 | 11
Safety Professional | Prescreening Questionnaire | 20 | 1 | 15/60 | 5
Student | Prescreening Questionnaire | 20 | 1 | 15/60 | 5
Mine Employee | Informed Consent | 30 | 1 | 6/60 | 3
Safety Professional | Informed Consent | 15 | 1 | 6/60 | 2
Student | Informed Consent | 15 | 1 | 6/60 | 2
Mine Employee | Demographic Questionnaire | 30 | 1 | 6/60 | 3
Safety Professional | Demographic Questionnaire | 15 | 1 | 6/60 | 2
Student | Demographic Questionnaire | 15 | 1 | 6/60 | 2
Mine Employee | Experimental Task | 30 | 1 | 60/60 | 30
Safety Professional | Experimental Task | 15 | 1 | 1 | 15
Student | Experimental Task | 15 | 1 | 1 | 15
Mine Employee | Risk Assessment Measure | 30 | 1 | 20/60 | 10
Safety Professional | Risk Assessment Measure | 15 | 1 | 20/60 | 5
Student | Risk Assessment Measure | 15 | 1 | 20/60 | 5
Mine Employee | Risk Propensity Scale | 30 | 1 | 6/60 | 3
Safety Professional | Risk Propensity Scale | 15 | 1 | 6/60 | 2
Student | Risk Propensity Scale | 15 | 1 | 6/60 | 2
Mine Employee | Mine Specific Risk Tolerance Measure | 30 | 1 | 6/60 | 3
Safety Professional | Mine Specific Risk Tolerance Measure | 15 | 1 | 6/60 | 2
Student | Mine Specific Risk Tolerance Measure | 15 | 1 | 6/60 | 2
Mine Employee | Open Ended Questions | 30 | 1 | 30/60 | 15
Safety Professional | Open Ended Questions | 15 | 1 | 30/60 | 8
Student | Open Ended Questions | 15 | 1 | 30/60 | 8
Total |  |  |  |  | 160

Leroy A. Richardson,
Chief, Information Collection Review Office, Office of Scientific Integrity, Office of the Associate Director for Science, Office of the Director, Centers for Disease Control and Prevention.

[FR Doc. 2015-08026 Filed 4-7-15; 8:45 am]

BILLING CODE 4163-18-P